DEPARTMENT OF DEFENSE

Department of the Army; Corps of Engineers

Coastal Engineering Research Board (CERB)

AGENCY: Department of the Army, DoD.

ACTION: Notice of meeting.

SUMMARY: In accordance with Section 10(a)(2) of the Federal Advisory Committee Act (Pub. L. 92-463), announcement is made of the following committee meeting:

Name of Committee: Coastal Engineering Research Board (CERB).

Date of Meeting: November 2-4, 2005.

Place: Hilton St. Petersburg, 333 First Street South, St. Petersburg, FL 33701.

Time: 3 p.m. to 5:15 p.m. (November 2, 2005); 8 a.m. to 5:30 p.m. (November 3, 2005); and 8 a.m. to 12 p.m. (November 4, 2005).

FOR FURTHER INFORMATION CONTACT: Inquiries and notice of intent to attend the meeting may be addressed to Colonel James R. Rowan, Executive Secretary, Commander, U.S. Army Engineer Research and Development Center, Waterways Experiment Station, 3909 Halls Ferry Road, Vicksburg, MS 39180-6199.

SUPPLEMENTARY INFORMATION: Proposed Agenda: On Tuesday afternoon, November 2, there will be presentations entitled “Overview of Hurricane Katrina and Its Effects,” “Overview of Hurricane Season 2005,” and “Technical View of the Impacts of Major Hurricanes to the Gulf Coast Region.” On Wednesday morning, November 3, presentations will continue concerning the impacts of Hurricane Katrina. These include “Preliminary Report of the ASCE Coastal, Oceans, Ports, and River Institute Katrina Committee;” “Implications of Hurricane Katrina from the Perspective of the Gulf of Mexico Alliance;” “Implications of Hurricane Katrina to the Louisiana Wetlands;” and “Mapping of Damages—Post Hurricane Katrina.” The afternoon session on November 3, will include presentations concerning shore protection project consideration. These include “Shore Protection Project Performance Improvement Initiative” and “Engineering Lessons Learned from Reconstruction of Florida Beaches.” There will be two panel discussions in the afternoon. One panel is entitled “Environmental Aspects of Beach Restoration.” The second panel is entitled “Sand Shortage” and will include presentations entitled “Strategic Sand Resources,” “Sand Stability and Quality Assurance,” and “Where is the Sand?” The members of the Board will meet in Executive Session on Friday morning, November 4.

These meetings are open to the public; participation by the public is scheduled for 4:45 p.m. on November 3.

The entire meeting is open to the public, but since seating capacity of the meeting room is limited, advance notice of intent to attend, although not required, is requested in order to assure adequate arrangements. Oral participation by public attendees is encouraged during the time scheduled on the agenda; written statements may be submitted prior to the meeting or up to 30 days after the meeting.

Brenda S. Bowen,
Army Federal Register Liaison Officer.

[FR Doc. 05-20506 Filed 10-12-05; 8:45 am]

BILLING CODE 3710-61-M